DEPARTMENT OF TRANSPORTATION

Federal Aviation Administration

14 CFR Part 97

[Docket No. 30833; Amdt. No. 3470]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 28, 2012. The compliance date for each SIAP, associated Takeoff Minimums, and ODP is specified in the amendatory provisions.

The incorporation by reference of certain publications listed in the regulations is approved by the Director of the Federal Register as of March 28, 2012.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on March 16, 2012.
John McGraw,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 3 MAY 2012

Oakland, CA, Metropolitan Oakland Intl, RNAV (RNP) Z RWY 29, Orig-B

Santa Maria, CA, Santa Maria Pub/Capt G Allan Hancock Fld, RNAV (GPS) RWY 12, Amdt 1

Santa Maria, CA, Santa Maria Pub/Capt G Allan Hancock Fld, Takeoff Minimums and Obstacle DP, Amdt 6

Santa Maria, CA, Santa Maria Pub/Capt G Allan Hancock Fld, VOR RWY 12, Amdt 15

Pocatello, ID, Pocatello Rgnl, VOR RWY 3, Amdt 17

Monticello, KY, Wayne County, Takeoff Minimums and Obstacle DP, Amdt 2

Jackson, MI, Jackson County-Reynolds Field, RNAV (GPS) RWY 14, Amdt 1

Jackson, MI, Jackson County-Reynolds Field, RNAV (GPS) RWY 32, Orig-A

Austin, MN, Austin Muni, ILS OR LOC RWY 35, Amdt 1

Austin, MN, Austin Muni, RNAV (GPS) RWY 35, Amdt 1

Marshall, MN, Southwest Minnesota Rgnl Marshall/Ryan Fld, RNAV (GPS) RWY 12, Amdt 1

Marshall, MN, Southwest Minnesota Rgnl Marshall/Ryan Fld, RNAV (GPS) RWY 30, Orig-A

Minneapolis, MN, Airlake, RNAV (GPS) RWY 30, Orig

Kansas City, MO, Charles B. Wheeler Downtown, ILS OR LOC RWY 3, Amdt 3

Kansas City, MO, Charles B. Wheeler Downtown, RNAV (GPS) RWY 3, Amdt 1

Kansas City, MO, Charles B. Wheeler Downtown, RNAV (GPS) RWY 21, Amdt 1

Kansas City, MO, Charles B. Wheeler Downtown, VOR RWY 3, Amdt 18

Kansas City, MO, Charles B. Wheeler Downtown, VOR RWY 21, Amdt 14

Lee's Summit, MO, Lee's Summit Muni, RNAV (GPS) RWY 11, Amdt 1

Lee's Summit, MO, Lee's Summit Muni, RNAV (GPS) RWY 18, Amdt 2

Lee's Summit, MO, Lee's Summit Muni, RNAV (GPS) RWY 29, Amdt 2

Lee's Summit, MO, Lee's Summit Muni, RNAV (GPS) RWY 36, Amdt 2

Erwin, NC, Harnett Rgnl Jetport, RNAV (GPS) RWY 5, Amdt 2B

Atkinson, NE., Stuart-Atkinson Muni, GPS RWY 29, Orig, CANCELLED

Atkinson, NE., Stuart-Atkinson Muni, RNAV (GPS) RWY 11, Orig

Atkinson, NE., Stuart-Atkinson Muni, RNAV (GPS) RWY 29, Orig

Atkinson, NE., Stuart-Atkinson Muni, Takeoff Minimums and Obstacle DP, Amdt 1

Atkinson, NE., Stuart-Atkinson Muni, VOR/DME RWY 29, Amdt 1

Kearney, NE., Kearney Rgnl, Takeoff Minimums and Obstacle DP, Amdt 1

Mount Holly, NJ, South Jersey Rgnl, VOR RWY 26, Amdt 3

Newark, NJ, Newark Liberty Intl, ILS OR LOC RWY 22R, Amdt 5B

Poughkeepsie, NY, Dutchess County, VOR/DME RWY 6, Amdt 7

Batavia, OH, Clermont County, RNAV (GPS) RWY 4, Amdt 1

Batavia, OH, Clermont County, RNAV (GPS) RWY 22, Amdt 1

Batavia, OH, Clermont County, Takeoff Minimums and Obstacle DP, Orig

Bellefontaine, OH, Bellefontaine Rgnl, RNAV (GPS) RWY 7, Amdt 1

Bellefontaine, OH, Bellefontaine Rgnl, RNAV (GPS) RWY 25, Amdt 1

Marysville, OH, Union County, GPS RWY 9, Orig-B, CANCELLED

Marysville, OH, Union County, GPS RWY 27, Orig-B, CANCELLED

Marysville, OH, Union County, RNAV (GPS) RWY 9, Orig

Marysville, OH, Union County, RNAV (GPS) RWY 27, Orig

Ardmore, OK, Ardmore Downtown Executive, VOR-A, Amdt 13A, CANCELLED

Kerrville, TX, Kerrville Muni/Louis Schreiner Field, VOR-A, Amdt 3A

Effective 31 MAY 2012

Deadhorse, AK, Deadhorse, RNAV (GPS) RWY 6, Orig

Deadhorse, AK, Deadhorse, RNAV (GPS) RWY 24, Orig

Deadhorse, AK, Deadhorse, Takeoff Minimums and Obstacle DP, Amdt 2

Marshall, AK, Marshall Don Hunter Sr, RNAV (GPS) RWY 7, Amdt 2

Marshall, AK, Marshall Don Hunter Sr, RNAV (GPS)-A, Amdt 2

Mountain Village, AK, Mountain Village, RNAV (GPS) RWY 2, Amdt 1

Mountain Village, AK, Mountain Village, RNAV (GPS) RWY 20, Amdt 1

Scammon Bay, AK, Scammon Bay, RNAV (GPS) RWY 28, Amdt 1

Oneonta, AL, Robbins Field, RNAV (GPS) RWY 5, Orig

Oneonta, AL, Robbins Field, RNAV (GPS) RWY 23, Orig

Oneonta, AL, Robbins Field, Takeoff Minimums and Obstacle DP, Orig

Camden, AR, Harrell Field, RNAV (GPS) RWY 1, Amdt 1

Camden, AR, Harrell Field, RNAV (GPS) RWY 19, Amdt 1

Camden, AR, Harrell Field, Takeoff Minimums and Obstacle DP, Amdt 1

Camden, AR, Harrell Field, VOR/DME RWY 1, Amdt 10

Lake Havasu City, AZ, Lake Havasu City, Takeoff Minimums and Obstacle DP, Amdt 2

Lake Havasu City, AZ, Lake Havasu City, VOR/DME-A, Amdt 1

Sacramento, CA, Sacramento Intl, ILS OR LOC RWY 16L, Amdt 2

Sacramento, CA, Sacramento Intl, ILS OR LOC RWY 16R, ILS RWY 16R (SA CAT I), ILS RWY 16R (CAT II), ILS RWY 16R (CAT III), Amdt 15

Sacramento, CA, Sacramento Intl, RNAV (GPS) Y RWY 16L, Amdt 1

Sacramento, CA, Sacramento Intl, RNAV (GPS) Y RWY 16R, Amdt 1

Denver, CO, Centennial, Takeoff Minimums and Obstacle DP, Amdt 5

Denver, CO, Denver Intl, ILS OR LOC RWY 7, Amdt 3

Denver, CO, Denver Intl, ILS OR LOC RWY 8, Amdt 5

Denver, CO, Denver Intl, ILS OR LOC RWY 16L, Amdt 3

Denver, CO, Denver Intl, ILS OR LOC RWY 16R, Amdt 1

Denver, CO, Denver Intl, ILS OR LOC RWY 17L, Amdt 4

Denver, CO, Denver Intl, ILS OR LOC RWY 17R, Amdt 3

Denver, CO, Denver Intl, ILS OR LOC RWY 25, Amdt 3

Denver, CO, Denver Intl, ILS OR LOC RWY 26, Amdt 3

Denver, CO, Denver Intl, ILS OR LOC RWY 34L, ILS RWY 34L (CAT II), ILS RWY 34L (CAT III), ILS RWY 34L (SA CAT I), Amdt 2

Denver, CO, Denver Intl, ILS OR LOC RWY 34R, ILS RWY 34R (CAT II), ILS RWY 34R (CAT III), ILS RWY 34R (SA CAT I), Amdt 3

Denver, CO, Denver Intl, ILS OR LOC RWY 35L, ILS RWY 35L (CAT II), ILS RWY 35L (CAT III), ILS RWY 35L (SA CAT I), Amdt 5

Denver, CO, Denver Intl, ILS OR LOC RWY 35R, ILS RWY 35R (CAT II), ILS RWY 35R (CAT III), ILS RWY 35R (SA CAT I), Amdt 3

Denver, CO, Denver Intl, RNAV (GPS) Y RWY 7, Amdt 1

Denver, CO, Denver Intl, RNAV (GPS) Y RWY 8, Amdt 1

Denver, CO, Denver Intl, RNAV (GPS) Y RWY 16L, Amdt 1

Denver, CO, Denver Intl, RNAV (GPS) Y RWY 16R, Amdt 1

Denver, CO, Denver Intl, RNAV (GPS) Y RWY 17L, Amdt 1

Denver, CO, Denver Intl, RNAV (GPS) Y RWY 17R, Amdt 1

Denver, CO, Denver Intl, RNAV (GPS) Y RWY 25, Amdt 1

Denver, CO, Denver Intl, RNAV (GPS) Y RWY 26, Amdt 1

Denver, CO, Denver Intl, RNAV (GPS) Y RWY 34L, Amdt 2

Denver, CO, Denver Intl, RNAV (GPS) Y RWY 34R, Amdt 2

Denver, CO, Denver Intl, RNAV (GPS) Y RWY 35L, Amdt 2

Denver, CO, Denver Intl, RNAV (GPS) Y RWY 35R, Amdt 2

Denver, CO, Denver Intl, RNAV (RNP) Z RWY 7, Orig

Denver, CO, Denver Intl, RNAV (RNP) Z RWY 8, Orig

Denver, CO, Denver Intl, RNAV (RNP) Z RWY 16L, Orig

Denver, CO, Denver Intl, RNAV (RNP) Z RWY 16R, Orig

Denver, CO, Denver Intl, RNAV (RNP) Z RWY 17L, Orig

Denver, CO, Denver Intl, RNAV (RNP) Z RWY 17R, Orig

Denver, CO, Denver Intl, RNAV (RNP) Z RWY 25, Orig

Denver, CO, Denver Intl, RNAV (RNP) Z RWY 26, Orig

Denver, CO, Denver Intl, RNAV (RNP) Z RWY 34L, Orig

Denver, CO, Denver Intl, RNAV (RNP) Z RWY 34R, Orig

Denver, CO, Denver Intl, RNAV (RNP) Z RWY 35L, Orig

Denver, CO, Denver Intl, RNAV (RNP) Z RWY 35R, Orig

Denver, CO, Front Range, ILS OR LOC RWY 17, Amdt 1

Denver, CO, Front Range, ILS OR LOC RWY 26, Amdt 5

Denver, CO, Front Range, ILS OR LOC RWY 35, Amdt 1

Denver, CO, Front Range, NDB RWY 26, Amdt 5

Denver, CO, Front Range, RNAV (GPS) RWY 17, Amdt 1

Denver, CO, Front Range, RNAV (GPS) RWY 26, Amdt 1

Denver, CO, Front Range, RNAV (GPS) RWY 35, Amdt 1

Denver, CO, Front Range, Takeoff Minimums and Obstacle DP, Amdt 3

Denver, CO, Rocky Mountain Metropolitan, Takeoff Minimums and Obstacle DP, Amdt 5

St. Augustine, FL, St Augustine, RNAV (GPS) RWY 31, Amdt 1

Atlantic, IA, Atlantic Muni, RNAV (GPS) RWY 2, Amdt 1

Atlantic, IA, Atlantic Muni, RNAV (GPS) RWY 20, Amdt 1

Belle Plaine, IA, Belle Plaine Muni, GPS RWY 18, Orig-A, CANCELLED

Belle Plaine, IA, Belle Plaine Muni, GPS RWY 36, Orig-A, CANCELLED

Belle Plaine, IA, Belle Plaine Muni, RNAV (GPS) RWY 18, Orig

Belle Plaine, IA, Belle Plaine Muni, RNAV (GPS) RWY 36, Orig

Belle Plaine, IA, Belle Plaine Muni, VOR/DME-A, Amdt 1

Oelwein, IA, Oelwein, Takeoff Minimums and Obstacle DP, Amdt 3

Sac City, IA, Sac City Muni, RNAV (GPS) RWY 18, Orig

Sac City, IA, Sac City Muni, RNAV (GPS) RWY 36, Amdt 1

Sheldon, IA, Sheldon Muni, RNAV (GPS) RWY 15, Amdt 1

Sheldon, IA, Sheldon Muni, RNAV (GPS) RWY 33, Amdt 1

Centralia, IL, Centralia Muni, RNAV (GPS) RWY 18, Amdt 1

Centralia, IL, Centralia Muni, RNAV (GPS) RWY 36, Amdt 1

Centralia, IL, Centralia Muni, Takeoff Minimums and Obstacle DP, Amdt 2

Chicago/Rockford, IL, Chicago/Rockford Intl, RNAV (GPS) RWY 7, Amdt 1A

Chicago/Rockford, IL, Chicago/Rockford Intl, RNAV (GPS) RWY 25, Amdt 1

Chicago/Rockford, IL, Chicago/Rockford Intl, RNAV (GPS) Y RWY 25, Orig-B, CANCELLED

Flora, IL, Flora Muni, RNAV (GPS) RWY 3, Amdt 2

Flora, IL, Flora Muni, RNAV (GPS) RWY 21, Amdt 2

Rochelle, IL, Rochelle Muni Airport-Koritz Field, RNAV (GPS) RWY 7, Amdt 1

Rochelle, IL, Rochelle Muni Airport-Koritz Field, RNAV (GPS) RWY 25, Amdt 1

Iola, KS, Allen County, RNAV (GPS) RWY 1, Amdt 1

Topeka, KS, Philip Billard Muni, RNAV (GPS) RWY 13, Amdt 1

Topeka, KS, Philip Billard Muni, RNAV (GPS) RWY 31, Amdt 1

Glasgow, KY, Glasgow Muni, RNAV (GPS) RWY 8, Amdt 2

Glasgow, KY, Glasgow Muni, RNAV (GPS) RWY 26, Amdt 2

Glasgow, KY, Glasgow Muni, SDF RWY 8, Amdt 11

Glasgow, KY, Glasgow Muni, VOR/DME RWY 8, Amdt 9

Greenville, KY, Muhlenberg County, RNAV (GPS) RWY 6, Orig

Greenville, KY, Muhlenberg County, RNAV (GPS) RWY 24, Amdt 1

Paducah, KY, Barkley Rgnl, RNAV (GPS) RWY 22, Orig-B

Falmouth, MA, Cape Cod Coast Guard Air Station, ILS OR LOC RWY 23, Amdt 1

Falmouth, MA, Cape Cod Coast Guard Air Station, ILS OR LOC RWY 32, Amdt 1

Westminster, MD, Carroll County Rgnl/Jack B Poage Field, RNAV (GPS) RWY 16, Amdt 2

Portland, ME, Portland Intl Jetport, ILS OR LOC RWY 11, ILS RWY 11 (SA CAT I), ILS RWY 11 (CAT II), ILS RWY 11 (CAT III), Amdt 3

Portland, ME, Portland Intl Jetport, ILS OR LOC RWY 29, ILS RWY 29 (SA CAT I), ILS RWY 29 (SA CAT II), Amdt 3

Portland, ME, Portland Intl Jetport, RNAV (GPS) RWY 11, Amdt 3

Portland, ME, Portland Intl Jetport, RNAV (GPS) RWY 18, Amdt 1

Portland, ME, Portland Intl Jetport, RNAV (GPS) RWY 29, Amdt 2

Portland, ME, Portland Intl Jetport, RNAV (GPS) RWY 36, Amdt 1

Portland, ME, Portland Intl Jetport, Takeoff Minimums and Obstacle DP, Amdt 5

Drummond Island, MI, Drummond Island, Takeoff Minimums and Obstacle DP, Amdt 1

Orr, MN, Orr Rgnl, Takeoff Minimums and Obstacle DP, Amdt 2

Columbia, MO, Columbia Rgnl, Takeoff Minimums and Obstacle DP, Amdt 5

Jefferson City, MO, Jefferson City Memorial, NDB RWY 12, Amdt 2C, CANCELLED

Philadelphia, MS, Philadelphia Muni, NDB RWY 18, Amdt 1A, CANCELLED

Philadelphia, MS, Philadelphia Muni, NDB RWY 36, Amdt 1A, CANCELLED

Billings, MT, Billings Logan Intl, ILS OR LOC/DME RWY 28R, Amdt 1

Billings, MT, Billings Logan Intl, RNAV (GPS) RWY 7, Amdt 1

Billings, MT, Billings Logan Intl, RNAV (GPS) RWY 25, Amdt 1

Portales, NM, Portales Muni, Takeoff Minimums and Obstacle DP, Orig

Socorro, NM, Socorro Muni, RNAV (GPS) RWY 33, Amdt 1

New York, NY, La Guardia, Takeoff Minimums and Obstacle DP, Amdt 9A

Hot Springs, SD, Hot Springs Muni, GPS RWY 19, Orig, CANCELLED

Hot Springs, SD, Hot Springs Muni, RNAV (GPS) RWY 1, Orig

Hot Springs, SD, Hot Springs Muni, RNAV (GPS) RWY 19, Orig

El Paso, TX, El Paso Intl, RNAV (GPS) X RWY 4, Orig-A

El Paso, TX, El Paso Intl, RNAV (RNP) Y RWY 4, Orig

El Paso, TX, El Paso Intl, RNAV (RNP) Z RWY 4, Orig

El Paso, TX, El Paso Intl, RNAV (RNP) Z RWY 22, Orig-A

El Paso, TX, El Paso Intl, RNAV (RNP) Z RWY 26L, Orig

Fort Worth, TX, Fort Worth Spinks, ILS OR LOC RWY 35L, Amdt 2

Fort Worth, TX, Fort Worth Spinks, RNAV (GPS) RWY 17R, Amdt 1

Fort Worth, TX, Fort Worth Spinks, RNAV (GPS) RWY 35L, Amdt 1

Nacogdoches, TX, A L Mangham Jr. Rgnl, GPS RWY 36, Orig-A, CANCELLED

Nacogdoches, TX, A L Mangham Jr. Rgnl, RNAV (GPS) RWY 36, Orig

Nacogdoches, TX, A L Mangham Jr. Rgnl, Takeoff Minimums and Obstacle DP, Amdt 2

Blackstone, VA, Allen C. Perkinson Muni/Blackstone AAF, Takeoff Minimums and Obstacle DP, Amdt 2

Galax Hillsville, VA, Twin County, RNAV (GPS) RWY 1, Amdt 1

Galax Hillsville, VA, Twin County, RNAV (GPS) RWY 19, Amdt 1

Galax Hillsville, VA, Twin County, Takeoff Minimums and Obstacle DP, Amdt 3

Bennington, VT, William H. Morse State, VOR RWY 13, Amdt 1

Milwaukee, WI, General Mitchell Intl, Takeoff Minimums and Obstacle DP, Amdt 8

Kemmerer, WY, Kemmerer Muni, Takeoff Minimums and Obstacle DP, Amdt 2

[FR Doc. 2012-7220 Filed 3-27-12; 8:45 am]

BILLING CODE 4910-13-P